DEPARTMENT OF THE INTERIOR

National Indian Gaming Commission

25 CFR Parts 524, 539, 577, 580, 581, 582, 583, 584, and 585

RIN 3141-AA47

Appeal Proceedings Before the Commission

AGENCY: National Indian Gaming Commission, Interior.

ACTION: Proposed rule; correction.

SUMMARY: This document corrects the preamble and regulatory text of the proposed rule published in the Federal Register on January 31, 2012, with respect to appeal proceedings before the National Indian Gaming Commission.

FOR FURTHER INFORMATION CONTACT: Maria Getoff, (202) 632-7003.

SUPPLEMENTARY INFORMATION: This document makes six technical corrections in the proposed rule to clarify that the definition of “summary proceeding” in proposed § 580.1 applies only to ordinance and management contract appeals and that the definition of “limited participant” applies only to appeals of disapprovals of gaming ordinances. Section 581.4 is corrected to reference all appeal actions listed in part 584. This notice corrects a typographical error in § 585.3(a) by replacing “§ 585.7 with “§ 585.6”, and clarifies that service of the record will be accomplished after a notice of appeal in proposed § 585.6. Finally, this correction removes limited participant from § 585.7(b) so that the proposed rule is consistent with part 585 and the definition of limited participant. This notice makes technical corrections to the preamble so that the preamble is consistent with the proposed rule.

Correction

In the preamble to proposed rule FR Doc. 2012-1767, beginning on page 4720 in the issue of January 31, 2012, make the following corrections in the SUPPLEMENTARY INFORMATION section:

1. On page 4723 in the 1st column, second full paragraph remove “a notice of appeal and brief” and add in its place “an appeal brief”.

2. On page 4724 in the 1st column remove the first full paragraph.

3. On page 4724 in the 1st column, fifth full paragraph, remove “a notice of appeal and appeal brief” and add in its place “an appeal brief”.

In proposed rule FR Doc. 2012-1767, beginning on page 4720 in the issue of January 31, 2012, make the following corrections to the amendatory text:

1. On page 4725 in the 1st column, in § 580.1:

a. In the definition of “limited participant” remove the word “either” between the words “in” and “an” and remove “or an appeal on written submissions under 585.5”; and

b. Revise the definition of “summary proceeding”.

The revision reads as follows:

§ 580.1 What definitions apply?

* * * * *

Summary proceeding. Ordinance appeals and management contract and amendment appeals are summary proceedings.

§ 581.4 [Corrected]

2. On page 4726, in the 2nd column, in § 581.4, add “the Commission's proposal to remove a certificate of self-regulation,” after the word, “contracts,”.

§ 585.3 [Corrected]

3. On page 4730, in the 2nd column, in § 585.3(a), remove “§ 585.7” and add in its place “§ 585.6”.

§ 585.6 [Corrected]

5. On page 4731, in the 1st column, in § 585.6, remove the following text, “an appeal brief” and add in its place, “a notice of appeal”.

§ 585.7 [Corrected]

6. On page 4731, in the 1st column, in § 585.7(b), remove “, and any limited participant”.

Dated: February 10, 2012, in Washington, DC.
Maria Getoff,
Senior Attorney.

[FR Doc. 2012-3559 Filed 2-15-12; 8:45 am]

BILLING CODE 7565-01-P